DEPARTMENT OF HOMELAND SECURITY

Federal Emergency Management Agency

[Docket ID FEMA-2024-0002; Internal Agency Docket No. FEMA-B-2460]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Arizona: Mojave | City of Kingman (24-09-0317P) | The Honorable Ken Watkins, Mayor, City of Kingman, 310 North 4th Street, Kingman, AZ 86401 | Mohave County Flood Control District, 3250 East Kino Avenue, Kingman, AZ 86409 | https://msc.fema.gov/portal/advanceSearch | Dec. 5, 2024 | 040060
Colorado:
Ebert | Town of Elizabeth (23-08-0679P) | The Honorable Tammy Payne, Mayor, Town of Elizabeth, P.O. Box 159, Elizabeth, CO 80107 | Town Hall, 321 South Banner Street, Elizabeth, CO 80107 | https://msc.fema.gov/portal/advanceSearch | Dec. 6, 2024 | 080056
Ebert | Unincorporated areas of Elbert County (23-08-0679P) | Chris Richardson, Chair, Elbert County Board of Commissioners, P.O. Box 7, Kiowa, CO 80117 | Elbert County Government, 215 Comanche Street, Kiowa, CO 80117 | https://msc.fema.gov/portal/advanceSearch | Dec. 6, 2024 | 080055
Connecticut: Fairfield | Town of Stratford (24-01-0076P) | The Honorable Laura R. Hoydick, Mayor, Town of Stratford, 2725 Main Street, Stratford, CT 06615 | Building Department, 2725 Main Street, Stratford, CT 06615 | https://msc.fema.gov/portal/advanceSearch | Nov. 25, 2024 | 090016
Florida:
Hillsborough | City of Plant City (23-04-5362P) | Bill McDaniel, Manager, City of Plant City, 302 West Reynolds Street, Plant City, FL 33564 | City Hall, 302 West Reynolds Street, Plant City, FL 33564 | https://msc.fema.gov/portal/advanceSearch | Nov. 18, 2024 | 120113
Monroe | Unincorporated areas of Monroe County (24-04-3773P) | The Honorable Holly Merrill Raschein, Mayor, Monroe County Board of Commissioners, 102050 Overseas Highway, Suite 234, Key Largo, FL 33037 | Monroe County Building Department, 2798 Overseas Highway, Suite 300, Marathon, FL 33050 | https://msc.fema.gov/portal/advanceSearch | Dec. 6, 2024 | 125129
Nassau | Town of Callahan (23-04-2277P) | The Honorable Randy Knagge, Mayor, Town of Callahan, 542300 U.S. Highway 1, Callahan, FL 32011 | Town Hall, 542300 U.S. Highway 1, Callahan, FL 32011 | https://msc.fema.gov/portal/advanceSearch | Dec. 12, 2024 | 120171
Nassau | Unincorporated areas of Nassau County (23-04-2277P) | Taco Pope, Nassau County Manager, 96135 Nassau Place, Suite 1, Yulee, FL 32097 | Nassau County Building Department, 96161 Nassau Place, Yulee, FL 32097 | https://msc.fema.gov/portal/advanceSearch | Dec. 12, 2024 | 120170
Nassau | Unincorporated areas of Nassau County (24-04-1544P) | Taco Pope, Nassau County Manager, 96135 Nassau Place, Suite 1, Yulee, FL 32097 | Nassau County Building Department, 96161 Nassau Place, Yulee, FL 32097 | https://msc.fema.gov/portal/advanceSearch | Dec. 5, 2024 | 120170
Polk | Unincorporated areas of Polk County (24-04-1992P) | Bill Beasley, Polk County Manager, 330 West Church Street, Bartow, FL 33830 | Polk County Land Development Division, 330 West Church Street, Bartow, FL 33830 | https://msc.fema.gov/portal/advanceSearch | Dec. 5, 2024 | 120261
Illinois:
Kane | Unincorporated areas of Kane County (24-05-0491P) | Corinne Pierog, Chair, Kane County Board, 719 South Batavia Avenue, Building A, Geneva, IL 60134 | Kane County Water Resources Department, 719 South Batavia Avenue, Building A, Geneva, IL 60134 | https://msc.fema.gov/portal/advanceSearch | Nov. 29, 2024 | 170896
Macon | City of Decatur (24-05-1373P) | The Honorable Julie Moore Wolfe, Mayor, City of Decatur, 1 Gary K. Anderson Plaza, Decatur, IL 62523 | City Hall, 1 Gary K. Anderson Plaza, Decatur, IL 62523 | https://msc.fema.gov/portal/advanceSearch | Nov. 29, 2024 | 170429
Will | Village of New Lenox (24-05-0965P) | The Honorable Timothy Baldermann, Mayor, Village of New Lenox, 1 Veterans Parkway, New Lenox, IL 60451 | Village Hall, 1 Veterans Parkway, New Lenox, IL 60451 | https://msc.fema.gov/portal/advanceSearch | Dec. 6, 2024 | 170706
Minnesota:
Anoka | City of Centerville (23-05-1374P) | The Honorable D. Love, Mayor, City of Centerville, 1880 Main Street, Centerville, MN 55038 | City Hall, 1880 Main Street, Centerville, MN 55038 | https://msc.fema.gov/portal/advanceSearch | Dec. 9, 2024 | 270008
Anoka | City of Lino Lakes (23-05-1374P) | The Honorable Rob Rafferty, Mayor, City of Lino Lakes, 600 Town Center Parkway, Lino Lakes, MN 55014 | City Hall, 600 Town Center Parkway, Lino Lakes, MN 55014 | https://msc.fema.gov/portal/advanceSearch | Dec. 9, 2024 | 270015
Mississippi: Hancock | City of Bay St. Louis (23-04-5378P) | The Honorable Mike Favre, Mayor, City of Bay St. Louis, 688 Highway 90, Bay St. Louis, MS 39520 | Chiniche Engineering and Surveying, 407 Highway 90, Bay St. Louis, MS 39520 | https://msc.fema.gov/portal/advanceSearch | Dec. 6, 2024 | 285251
New Mexico: Bernalillo | City of Albuquerque (24-06-0613P) | The Honorable Tim Keller, Mayor, City of Albuquerque, 1 Civic Plaza Northwest, Albuquerque, NM 87102 | Planning Department, 600 2nd Street Northwest, Albuquerque, NM 87102 | https://msc.fema.gov/portal/advanceSearch | Dec. 5, 2024 | 350002
North Carolina:
Craven | City of Havelock (23-04-5092P) | The Honorable William L. Lewis, Jr., Mayor, City of Havelock, P.O. Box 368, Havelock, NC 28532 | Planning Department, 1 Governmental Avenue, Havelock, NC 28532 | https://msc.fema.gov/portal/advanceSearch | Oct. 7, 2024 | 370265
Guilford | City of Greensboro (23-04-3460P) | The Honorable Nancy Vaughan, Mayor, City of Greensboro, P.O. Box 3136, Greensboro, NC 27402 | Stormwater Planning Division, 2602 South Elm, Eugene Street, Greensboro, NC 27402 | https://msc.fema.gov/portal/advanceSearch | Dec. 9, 2024 | 375351
Guilford | Unincorporated areas of Guilford County (23-04-3460P) | Melvin Alson, Chair, Guilford County Board of Commissioners, 301 West Market Street, Greensboro, NC 27401 | Guilford County Planning Department, 400 West Market Street, Greensboro, NC 27401 | https://msc.fema.gov/portal/advanceSearch | Dec. 9, 2024 | 370111
Rowan | Unincorporated areas of Rowan County (23-04-5146P) | Greg Edds, Chair, Rowan County Board of Commissioners, 130 West Innes Street , Salisbury, NC 28144 | Rowan County Planning and Development Department, 402 North Main Street, #204, Salisbury, NC 28144 | https://msc.fema.gov/portal/advanceSearch | Nov. 29, 2024 | 370351
Surry | Unincorporated areas of Surry County (23-04-1415P) | Van Tucker, Chair, Surry County Board of Commissioners, P.O. Box 1467, Dobson, NC 27017 | Surry County Central Permitting Center, 122 Hamby Road, Dobson, NC 27017 | https://msc.fema.gov/portal/advanceSearch | Dec. 12, 2024 | 370364
Wake | Town of Holly Springs (23-04-3934P) | The Honorable Sean Mayefskie, Mayor, Town of Holly Springs, P.O. Box 8, Holly Springs, NC 27540 | Engineering Department, 128 South Main Street, Holly Springs, NC 27540 | https://msc.fema.gov/portal/advanceSearch | Dec. 2, 2024 | 370403
Wake | Unincorporated areas of Wake County (23-04-3934P) | Shinica Thomas, Chair, Wake County Board of Commissioners, P.O. Box 550, Raleigh, NC 27602 | Environmental Services Department, 337 South Salisbury Street, Raleigh, NC 27601 | https://msc.fema.gov/portal/advanceSearch | Dec. 2, 2024 | 370368
South Carolina:
Sumter | City of Sumter (23-04-6479P) | The Honorable David P. Merchant, Mayor, City of Sumter, P.O. Box 1449, Sumter, SC 29150 | Sumter City-County Planning Department, 12 West Liberty Street, Suite C, Sumter, SC 29150 | https://msc.fema.gov/portal/advanceSearch | Nov. 4, 2024 | 450184
Sumter | Unincorporated areas of Sumter County (23-04-6479P) | James T. McCain, Jr., Chair, Sumter County Council, 13 East Canal Street, Sumter, SC 29150 | Sumter City-County Planning Department, 12 West Liberty Street, Suite C, Sumter, SC 29150 | https://msc.fema.gov/portal/advanceSearch | Nov. 4, 2024 | 450182
Texas:
Bexar | City of San Antonio (24-06-0473P) | The Honorable Ron Nirenberg, Mayor, City of San Antonio, P.O. Box 839966, San Antonio, TX 78283 | Public Works Department, Storm Water Division, 1901 South Alamo Street, 2nd Floor, San Antonio, TX 78204 | https://msc.fema.gov/portal/advanceSearch | Nov. 12, 2024 | 480045
Bexar | City of San Antonio (24-06-0474P) | The Honorable Ron Nirenberg, Mayor, City of San Antonio, P.O. Box 839966, San Antonio, TX 78283 | Public Works Department, Storm Water Division, 1901 South Alamo Street, 2nd Floor, San Antonio, TX 78204 | https://msc.fema.gov/portal/advanceSearch | Nov. 25, 2024 | 480045
Bexar and Guadalupe | City of Schertz (22-06-2567P) | The Honorable Ralph Gutierrez, Mayor, City of Schertz, 1400 Schertz Parkway, Schertz, TX 78154 | City Hall, 1400 Schertz Parkway, Schertz, TX 78154 | https://msc.fema.gov/portal/advanceSearch | Nov. 4, 2024 | 480269
Bexar | Unincorporated areas of Bexar County (22-06-2567P) | The Honorable Peter Sakai, Bexar County Judge, 101 West Nueva Street, 10th Floor, San Antonio, TX 78205 | Bexar County Courthouse, 100 Dolorosa Street, San Antonio, TX 78205 | https://msc.fema.gov/portal/advanceSearch | Nov. 4, 2024 | 480035
Collin | Unincorporated areas of Collin County (24-06-0873P) | The Honorable Chris Hill, Collin County Judge, 2300 Bloomdale Road, McKinney, TX 75071 | Collin County Juvenile Justice Alternative Education Program Building, 4690 Community Avenue, McKinney, TX 75071 | https://msc.fema.gov/portal/advanceSearch | Dec. 2, 2024 | 480130
Comanche | City of Comanche (23-06-1232P) | The Honorable Mary A. Boyd, Mayor, City of Comanche, 101 East Grand Avenue, Comanche, TX 76442 | City Hall, 101 East Grand Avenue, Comanche, TX 76442 | https://msc.fema.gov/portal/advanceSearch | Nov. 8, 2024 | 480151
Dallas | City of Grand Prairie (23-06-2560P) | The Honorable Ron Jensen, Mayor, City of Grand Prairie, 300 West Main Street, Grand Prairie, TX 75050 | Stormwater Department, 300 West Main Street, Grand Prairie, TX 75050 | https://msc.fema.gov/portal/advanceSearch | Nov. 18, 2024 | 485472
Dallas | City of Irving (23-06-2560P) | The Honorable Rick Stopfer, Mayor, City of Irving, 825 West Irving Boulevard, Irving, TX 75060 | Capital Improvement Program, 825 West Irving Boulevard, Irving, TX 75060 | https://msc.fema.gov/portal/advanceSearch | Nov. 18, 2024 | 480180
Dallas | City of Irving (24-06-0724P) | The Honorable Rick Stopfer, Mayor, City of Irving, 825 West Irving Boulevard, Irving, TX 75060 | Capital Improvement Program, 825 West Irving Boulevard, Irving, TX 75060 | https://msc.fema.gov/portal/advanceSearch | Nov. 18, 2024 | 480180
Denton | City of Fort Worth (23-06-1526P) | The Honorable Mattie Parker, Mayor, City of Fort Worth, 200 Texas Street, Fort Worth, TX 76102 | Department of Transportation and Public Works, Engineering Vault and Map Repository, 200 Texas Street, Fort Worth, TX 76102 | https://msc.fema.gov/portal/advanceSearch | Dec. 5, 2024 | 480596
Denton | Unincorporated areas of Denton County (23-06-1526P) | The Honorable Andy Eads, Denton County Judge, 1 Courthouse Drive, Suite 3100, Denton, TX 76208 | Denton County Development Services Department, 3900 Morse Street, Denton, TX 76208 | https://msc.fema.gov/portal/advanceSearch | Dec. 5, 2024 | 480774
Tarrant | City of Fort Worth (23-06-1147P) | The Honorable Mattie Parker, Mayor, City of Fort Worth, 200 Texas Street, Fort Worth, TX 76102 | Department of Transportation and Public Works, Engineering Vault and Map Repository, 200 Texas Street, Fort Worth, TX 76102 | https://msc.fema.gov/portal/advanceSearch | Nov. 4, 2024 | 480596
Tarrant | City of Fort Worth (24-06-0569P) | The Honorable Mattie Parker, Mayor, City of Fort Worth, 200 Texas Street, Fort Worth, TX 76102 | Department of Transportation and Public Works, Engineering Vault and Map Repository, 200 Texas Street, Fort Worth, TX 76102 | https://msc.fema.gov/portal/advanceSearch | Nov. 29, 2024 | 480596
Tarrant | City of White Settlement (23-06-1147P) | The Honorable Faron Young, Mayor, City of White Settlement, 214 Meadow Park Drive, White Settlement, TX 76108 | City Hall, 214 Meadow Park Drive, White Settlement, TX 76108 | https://msc.fema.gov/portal/advanceSearch | Nov. 4, 2024 | 480617
Tarrant | Unincorporated areas of Tarrant County (24-06-0569P) | The Honorable Tim O'Hare, Tarrant County Judge, 100 East Weatherford Street, Suite 501, Fort Worth, TX 76196 | Tarrant County Transportation Department Engineering Section, 100 East Weatherford Street, Fort Worth, TX 76196 | https://msc.fema.gov/portal/advanceSearch | Nov. 29, 2024 | 480582
Travis | City of Mustang Ridge (24-06-0742P) | The Honorable David Bunn, Mayor, City of Mustang Ridge, 12800 U.S. Highway 183 South, Buda, TX 78610 | City Hall, 12800 U.S. Highway 183 South, Mustang Ridge, TX 78610 | https://msc.fema.gov/portal/advanceSearch | Dec. 9, 2024 | 481687
Utah:
Cache | City of Logan (24-08-0055P) | The Honorable Holly H. Daines, Mayor, City of Logan, 290 North 100 West, Logan, UT 84321 | Public Works Department, 290 North 100 West, Logan, UT 84321 | https://msc.fema.gov/portal/advanceSearch | Jan. 17, 2025 | 490019
Cache | City of Millville (24-08-0055P) | The Honorable David Hair, Mayor, City of Millville, P.O. Box 308, Millville, UT 84326 | City Hall, P.O. Box 308, Millville, UT 84326 | https://msc.fema.gov/portal/advanceSearch | Jan. 17, 2025 | 490021
Cache | City of Nibley (24-08-0055P) | The Honorable Larry Jacobsen, Mayor, City of Nibley, 455 West 3200 South, Nibley, UT 84321 | Public Works Department, 455 West 3200 South, Nibley, UT 84321 | https://msc.fema.gov/portal/advanceSearch | Jan. 17, 2025 | 490023
Cache | City of Providence (24-08-0055P) | The Honorable Kathleen Alder, Mayor, City of Providence, 164 North Gateway Drive, Providence, UT 84332 | City Hall, 164 North Gateway Drive, Providence, UT 84332 | https://msc.fema.gov/portal/advanceSearch | Jan. 17, 2025 | 490226
Cache | City of River Heights (24-08-0055P) | The Honorable Jason Thompson, Mayor, River Heights City, 520 South 500 East, River Heights, UT 84321 | River Heights City Office, 520 South 500 East, River Heights, UT 84321 | https://msc.fema.gov/portal/advanceSearch | Jan. 17, 2025 | 490240
Cache | Unincorporated areas of Cache County (24-08-0055P) | The Honorable David Zook, Cache County Executive, 199 North Main Street, Logan, UT 84321 | Public Works Department, 179 North Main Street, Suite 305, Logan, UT 84321 | https://msc.fema.gov/portal/advanceSearch | Jan. 17, 2025 | 490012
Virginia:
Independent City | City of Suffolk (24-03-0330P) | The Honorable Michael D. Duman, Mayor, City of Suffolk, 442 West Washington Street, Suffolk, VA 23434 | Department of Planning and Community Development, 442 West Washington Street, Suffolk, VA 23434 | https://msc.fema.gov/portal/advanceSearch | Dec. 5, 2024 | 510156
Fairfax | Unincorporated areas of Fairfax County (24-03-0112P) | Bryan Hill, Fairfax County Executive, 12000 Government Center Parkway, Fairfax, VA 22035 | Public Works and Environmental Services Department, 12000 Government Center Parkway, Suite 449, Fairfax, VA 22035 | https://msc.fema.gov/portal/advanceSearch | Nov. 29, 2024 | 515525

[FR Doc. 2024-20522 Filed 9-10-24; 8:45 am]

BILLING CODE 9110-12-P